DEPARTMENT OF TRANSPORTATION

Federal Aviation Administration

Advisory Circular 431.35-2A, Reusable Launch and Reentry Vehicle System Safety Process—Notice of Issuance

AGENCY: Federal Aviation Administration, DOT.

ACTION: Notice of issuance of advisory circular.

SUMMARY: This notice announces the issuance of Advisory Circular 431.35-2A, “Reusable Launch and Reentry Vehicle System Safety Process,” dated July 20, 2005.

This advisory circular provides guidance for applying a systematic and logical system safety process for identification, analysis, and control of public safety hazards and risks associated with the operation of reusable launch vehicle and reentry vehicle systems.

DATES: FAA Office of Commercial Space Transportation in Washington, DC issued AC 431.35-2A on August 4, 2005.

How to Obtain Copies: You can download a copy of Advisory Circular 431.35-2A, Reusable Launch and Reentry Vehicle System Safety Process, from the Internet at http://www.airweb.faa.gov/rgl. A paper copy will be available in approximately 6-8 weeks from the U.S. Department of Transportation, Subsequent Distribution Office, M-30, Ardmore East Business Center, 3341 Q 75th Avenue, Landover, MD 20795.

FOR FURTHER INFORMATION CONTACT: Stewart Jackson, Manager, Systems Engineering and Training Division (AST-300), FAA Office of Commercial Space Transportation, 800 Independence Avenue SW., Washington, DC 20591; telephone (202) 267-7903; e-mail stewart.jackson@faa.gov.

Issued in Washington, DC, August 4, 2005.
Camilla F. McArthur,
Space Systems Development Division (AST-100), Office of Commercial Space Transportation.

[FR Doc. 05-15849 Filed 8-10-05; 8:45 am]

BILLING CODE 4910-13-P